SMALL BUSINESS ADMINISTRATION

Small Business Size Standards: Waiver of the Nonmanufacturer Rule

AGENCY: U.S. Small Business Administration.

ACTION: Notice of Waiver to the Nonmanufacturer Rule for Conductor and Control Cable (Aluminum); Conductor and Control Cable (Copper); Truck Trailer; All terrain vehicles (ATVs), wheeled or tracked; Snowmobiles and parts; Off-road ATV, wheeled or tracked; Noncurrent-Carrying Wiring Device Manufacturing, i.e., dead end tees and connectors, guy strain and link assemblies, bolts, washers, turnbuckles, twisted clips, steel angle assemblies, yoke plates, compression T connectors, press dies, anchor shackles, Y clevis ball and Y clevis sockets, yoke plates, and grounding clamps.

SUMMARY: The U.S. Small Business Administration (SBA) is granting a waiver of the Nonmanufacturer Rule for Conductor and Control Cable (Aluminum); Conductor and Control Cable (Copper); Truck Trailer; ATV, wheeled or tracked; Snowmobiles and parts; Off-road All terrain vehicles ATV, wheeled or tracked; Noncurrent-Carrying Wiring Device Manufacturing, dead end tees and connectors, guy strain and link assemblies, bolts, washers, turnbuckles, twisted clips, steel angle assemblies, yoke plates, compression T connectors, press dies, anchor shackles, Y clevis ball and Y clevis sockets, yoke plates, and grounding clamps.

The basis for waiver is that no small business manufacturers are supplying these classes of products to the Federal government. The effect of a waiver would be to allow otherwise qualified small businesses to supply the products of any manufacturer on a Federal contract set aside for small businesses, service-disabled veteran-owned small businesses or SBA's 8(a) Business Development Program.

DATE: This waiver is effective May 8, 2009.

FOR FURTHER INFORMATION CONTACT: Ms. Edith G. Butler, by telephone at (202) 619-0422; by FAX at (202) 481-1788; or by e-mail at edith.butler@sba.gov.

SUPPLEMENTARY INFORMATION: Section 8(a)(17) of the Small Business Act (Act), 15 U.S.C. 637(a)(17), and SBA's implementing regulations provide that recipients of Federal contracts set aside for small businesses, service-disabled veteran-owned small businesses, or participants in the SBA's 8(a) Business Development Program must provide the product of a small business manufacturer or processor, if the recipient is other than the actual manufacturer or processor of the product. This requirement is commonly referred to as the Nonmanufacturer Rule. 13 CFR 121.406(b),125.15(c). Section 8(a)(17)(b)(iv) of the Act authorizes SBA to waive the Nonmanufacturer Rule for any “class of products” for which there are no small business manufacturers or processors available to participate in the Federal market.

In order to be considered available to participate in the Federal market for a class of products, a small business manufacturer must have submitted a proposal for a contract solicitation or received a contract from the Federal government within the last 24 months. 13 CFR 121.1202(1). The SBA defines “class of products” based on the Office of Management and Budget North American Industry Classification System (NAICS). In addition, SBA uses Product Service Codes (PSC) to identify particular products within the NAICS code to which a waiver would apply.

The SBA received a request on February 13, 2009, to waive the Nonmanufacturer Rule for Conductor and Cable (Aluminum), NAICS code 331319, PSC 6145; Conductor and Control Cable (Copper), NAICS code 331422, PSC 6145; Truck Trailer Manufacturing; NAICS code 336212, PSC 2330; ATV, wheeled or tracked, Manufacturing; Snowmobiles and parts; Off-road ATV and wheeled or tracked Manufacturing, NAICS code 336999, PSC 2330; and Noncurrent-Carrying Wiring Device Manufacturing, i.e., dead end tees and connectors, guy strain and link assemblies, bolts, washers, turnbuckles, twisted clips, steel angle assemblies, yoke plates, compression T connectors, press dies, anchor shackles, & clevis ball and & clevis sockets, yoke plates and grounding clamps, NAICS code 335932, PSC 5975.

On March 9, 2009, SBA published in the Federal Register a notice of intent to waive the Nonmanufacturer Rule for the above listed items. SBA explained in the notice that it was soliciting comments and sources of small business manufacturers of these classes of products. No comments were received in response to this notice. SBA has determined that there are no small business manufacturers of these classes of products, and is therefore granting the waiver of the Nonmanufacturer Rule for Conductor and Cable (Aluminum), NAICS code 331319, PSC 6145; Conductor and Control Cable (Copper), NAICS code 331422, PSC 6145; Truck Trailer Manufacturing; NAICS code 336212, PSC 2330; ATV, wheeled or tracked, Manufacturing; Snowmobiles and parts; Off-road ATV and wheeled or tracked Manufacturing, NAICS code 336999, PSC 2330; and Noncurrent-Carrying Wiring Device Manufacturing, i.e., dead end tees and connectors, guy strain and link assemblies, bolts, washers, turnbuckles, twisted clips, steel angle assemblies, yoke plates, compression T connectors, press dies, anchor shackles, & clevis ball and & clevis sockets, yoke plates and grounding clamps, NAICS code 335932, PSC 5975.

Authority: 15 U.S.C. 637(a)(17).

Dated: April 15, 2009.
Karen C. Hontz,
Director for Government Contracting.

[FR Doc. E9-9306 Filed 4-22-09; 8:45 am]

BILLING CODE 8025-01-P